DEPARTMENT OF COMMERCE

Foreign-Trade Zones Board

[Order No. 1886]

Grant of Authority; Establishment of a Foreign-Trade Zone Under the Alternative Site Framework Chenango County, New York

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR 400.2(c)) as an option for the establishment or reorganization of zones;

Whereas, Chenango County, New York (the Grantee) has made application to the Board (B-56-2012, docketed 7/30/2012), requesting the establishment of a foreign-trade zone under the ASF with a service area of Chenango County, New York, adjacent to the Syracuse Customs and Border Protection port of entry, and including proposed Sites 1 and 2, which would be categorized as usage-driven sites;

Whereas, notice inviting public comment has been given in the Federal Register (77 FR 46023-46024, 8/02/2012) and the application has been processed pursuant to the FTZ Act and the Board's regulations; and

Whereas, the Board adopts the findings and recommendations of the examiner's report, and finds that the requirements of the FTZ Act and the Board's regulations are satisfied;

Now, therefore, the Board hereby grants to the Grantee the privilege of establishing a foreign-trade zone, designated on the records as Foreign-Trade Zone No. 285, as described in the application, and subject to the FTZ Act and the Board's regulations, including Section 400.13, to the Board's standard 2,000-acre activation limit, and to a three-year ASF sunset provision for usage-driven sites that would terminate authority for Sites 1 and 2 if no foreign-status merchandise is admitted for a bona fide customs purpose by March 31, 2016.

Signed at Washington, DC, this 25th day of March 2013.
Rebecca Blank,
Deputy Secretary of Commerce, Chairman and Executive Officer, Foreign-Trade Zones Board.
ATTEST:
Andrew McGilvray,
Executive Secretary.

[FR Doc. 2013-07726 Filed 4-2-13; 8:45 am]

BILLING CODE P